DEPARTMENT OF TRANSPORTATION

National Highway Traffic Safety Administration

[DOT Docket Number NHTSA-2010-0010]

Reports, Forms, and Recordkeeping Requirements

AGENCY: National Highway Traffic Safety Administration (NHTSA), Department of Transportation.

ACTION: Request for public comment on extension of a currently approved collection of information.

SUMMARY: In compliance with the Paperwork Reduction Act of 1995 (44 U.S.C. 3501 et seq.), this notice announces that the Information Collection Request (ICR) abstracted below has been forwarded to the Office of Management and Budget (OMB) for review and comment. The ICR describes the nature of the information collection and their expected burden. The Federal Register notice with a 60-day comment period was published on January 27, 2010 (75 FR 4447).

DATES: Comments must be submitted to OMB on or before May 7, 2010.

ADDRESSES: Comments must refer to the OMB control number, 2127-0052, and be sent to the Office of Information and Regulatory Affairs, Office of Management and Budget, 725 17th Street, NW., Washington, DC 20503, Attention NHTSA Desk Officer.

FOR FURTHER INFORMATION CONTACT: Mr. Jeffrey M. Woods, NHTSA, 1200 New Jersey Avenue, SE., Room W43-467, NVS-122, Washington, DC 20590. Mr. Woods' telephone number is (202) 366-6206.

SUPPLEMENTARY INFORMATION: Under the Paperwork Reduction Act of 1995, before an agency submits a proposed collection of information to OMB for approval, it must first publish a document in the Federal Register providing a 60-day comment period and otherwise consult with members of the public and affected agencies concerning each proposed collection of information. The 60-day notice was published on January 27, 2010 (75 FR 4447) and no comments were received. Therefore, the Information Collection Request (ICR) abstracted below has been forwarded to the Office of Management and Budget (OMB) for review and comment.

Title: Brake Hose Manufacturers Identification, Federal Motor Vehicle Safety Standard (FMVSS) No. 106.

OMB Control Number: 2127-0052.

Form Number: This collection of information uses no standard form.

Type of Request: Extension of a currently approved collection of information.

Abstract: 49 U.S.C. 30101 et seq., as amended (“the Safety Act”), authorizes NHTSA to issue Federal Motor Vehicle Safety Standards (FMVSS). The Safety Act mandates that in issuing any Federal motor vehicle safety standards, the agency is to consider whether the standard is reasonable and appropriate for the particular type of motor vehicle or item of motor vehicle equipment for which it is prescribed. Using this authority, FMVSS No. 106, Brake Hoses, was issued. This standard specifies labeling and performance requirements which apply to all manufacturers of brake hoses and brake hose end fittings, and to those who assemble brake hoses. Prior to assembling or selling brake hoses, these entities must register their identification marks with NHTSA to comply with the labeling requirements of this standard. In accordance with the Paperwork Reduction Act, the agency must obtain OMB approval to continue collecting labeling information.

Currently, there are 1,944 manufacturers of brake hoses and end fittings, and brake hose assemblers, registered with NHTSA. However, only approximately 20 respondents annually request to have their symbol added to or removed from the NHTSA database. To comply with this standard, each brake hose manufacturer or assembler must contact NHTSA and state that they want to be added to or removed from the NHTSA database of registered brake hose manufacturers. This action is usually initiated by the manufacturer with a brief written request via U.S. mail, facsimile, an e-mail message, or a telephone call. Currently, a majority of the requests are received via U.S. mail and the follow-up paperwork is conducted via facsimile, U.S. mail, or electronic mail. The estimated cost for complying with this regulation is $100 per hour. Therefore, the total annual cost is estimated to be $3,000 (time burden of 30 hours × $100 cost per hour).

Affected Public: Business or other for profit.

Estimated Annual Burden: 30 hours.

Estimated Number of Respondents: 20.

Comments are invited on: whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

A comment to OMB is most effective if OMB receives it within 30 days of publication.

Issued on: April 1, 2010.
Stephen R. Kratzke,
Associate Administrator for Rulemaking.

[FR Doc. 2010-7862 Filed 4-6-10; 8:45 am]

BILLING CODE 4910-59-P